DEPARTMENT OF THE INTERIOR

Bureau of Land Management

[LLORV00000.L10200000.XZ0000.LXSSH1050000.20X.HAG 20-0075]

Notice of Public Meetings for the John Day-Snake Resource Advisory Council, Oregon

AGENCY: Bureau of Land Management, Interior.

ACTION: Notice of public meetings.

SUMMARY: In accordance with the Federal Land Policy and Management Act of 1976 and the Federal Advisory Committee Act of 1972, the U.S. Department of the Interior Bureau of Land Management's (BLM) John Day-Snake Resource Advisory Council (RAC) will meet as indicated below. If public health restrictions remain in place the meeting will be held virtually.

DATES: The John Day-Snake RAC will meet Thursday, October 15, 2020, from 8 a.m. to 4:30 p.m.; and Friday, October 16, 2020, from 8 a.m. to noon. A public comment period will be offered at 3:15 p.m. on Thursday, October 15, 2020.

ADDRESSES: The meeting will be held at the Wallowa County Fairgrounds, 668 NW 1st St., Enterprise, Oregon.

FOR FURTHER INFORMATION CONTACT: Larisa Bogardus, Public Affairs Officer, 3100 H St., Baker City, Oregon 97814; 541-219-6863; lbogardus@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member John Day-Snake RAC was chartered and appointed by the Secretary of the Interior. Their diverse perspectives are represented in commodity, conservation, and general interests. Members provide advice to the BLM and, as needed, the U.S. Forest Service resource managers regarding management plans and proposed resource actions on public land in Central and Eastern Oregon. All meetings are open to the public in their entirety. Information to be distributed to the RAC is requested prior to the start of each meeting.

Standing agenda items include management of energy and minerals, timber, rangeland and grazing, commercial and dispersed recreation, wildland fire and fuels, and wild horses and burros; review and/or recommendations regarding proposed actions by the Vale or Prineville BLM districts and the Wallowa-Whitman, Umatilla, Malheur, Ochoco, and Deschutes National Forests; and any other business that may reasonably come before the RAC. A final agenda will be posted online at https://www.blm.gov/get-involved/resource-advisory-council/near-you/oregon-washington/john-day-rac at least one week prior to the meeting.

The Designated Federal Officer (DFO) will attend the meeting, take minutes, and publish these minutes on the RAC web page at https://www.blm.gov/get-involved/resource-advisory-council/near-you/oregon-washington/john-day-rac.

All meetings are open to the public in their entirety. The public may send written comments to the RAC for consideration. Comments can be mailed to: BLM Vale District; Attn. Don Gonzalez; 100 Oregon St., Vale, Oregon 97918. Interested persons may make oral or written presentations to the Council during the business meeting or file written statements. Such requests should be made to the DFO prior to the public comment period. Depending on the number of people who wish to speak and the time available, the time for individual comments may be limited.

Before including your address, phone number, email address, or other personal identifying information in your comments, please be aware that your entire comment—including your personal identifying information—may be made publicly available at any time. While you can ask us in your comment to withhold your personal identifying information from public review, we cannot guarantee we will be able to do so.

Authority: 43 CFR 1784.4-2

Donald N. Gonzalez,
Vale District Manager.

[FR Doc. 2020-18310 Filed 8-19-20; 8:45 am]

BILLING CODE P